DEPARTMENT OF HEALTH AND HUMAN SERVICES

Centers for Disease Control and Prevention

[Program Announcement 01080]

Notice of Availability of Funds; Rhode Island Tobacco Cessation Program

A. Purpose

The Centers for Disease Control and Prevention (CDC) announces the availability of fiscal year (FY) 2001 funds for a grant program for the University of Rhode Island. This program addresses the “Healthy People 2010” focus area Tobacco Use.

The purpose of the program is to compare media and policy interventions on smoking cessation and adoption of no smoking policies in the home.

B. Eligible Applicants

Assistance will be provided only to the University of Rhode Island. No other applications are solicited. The Conference Report H.R. 4577, Consolidated Appropriations Act, 2001, specified these funds for The University of Rhode Island to establish a program to compare media and policy interventions.

C. Availability of Funds

Approximately $839,506 is available in FY 2001 to fund one award. It is expected that the award will begin on or about July 15, 2001, and will be made for a 12-month budget period within a one year project period. Funding estimates may change.

D. Where to Obtain Additional Information

Business management technical assistance may be obtained from: Lucy Picciolo, Grants Management Specialist, Grants Management Branch, Procurement and Grants Office, Announcement 01080, Centers for Disease Control and Prevention (CDC), 2920 Brandywine Road, Room 3000, Atlanta, GA 30341, Telephone Number (770) 488-2683, Email Address: lip6@cdc.gov.

Program technical assistance may be obtained from: Corinne Husten, MD, MPH, Branch Chief, Epidemiology Branch, Office of Smoking and Health, National Center for Chronic Disease Prevention and Health Promotion (NCCDPHP), 4770 Buford Highway, NE, MS K-57, Atlanta, GA 30341, Telephone Number (770) 488-5756, Email Address: EHusten@cdc.gov.

Dated: April 17, 2001.
John L. Williams,
Director, Procurement and Grants Office, Centers for Disease Control and Prevention.

[FR Doc. 01-9931 Filed 4-20-01; 8:45 am]

BILLING CODE 4163-18-P